DEPARTMENT OF COMMERCE

International Trade Administration

[A-533-843]

Certain Lined Paper Products From India: Notice of Partial Rescission of Antidumping Duty Administrative Review; 2016-2017

AGENCY: Enforcement and Compliance, International Trade Administration, Department of Commerce.

DATES: Applicable August 16, 2018.

FOR FURTHER INFORMATION CONTACT: Cindy Robinson or Joy Zhang AD/CVD Operations, Office III, Enforcement and Compliance, International Trade Administration, U.S. Department of Commerce, 1401 Constitution Avenue NW, Washington, DC 20230; telephone: (202) 482-3797 or (202) 482-1168, respectively.

SUPPLEMENTARY INFORMATION:

Background

On September 28, 2006, the Department of Commerce (Commerce) published in the Federal Register the antidumping duty order on certain lined paper products from India.¹ On September 1, 2017, Commerce published a notice of opportunity to request an administrative review of the antidumping duty order on certain lined paper products from India.² On November 13, 2017, pursuant to timely requests from interested parties, Commerce published in the Federal Register the notice of initiation of this antidumping duty administrative review with respect to the following companies for the period of review September 1, 2016, through August 31, 2017: Goldenpalm Manufacturers PVT Limited (Goldenpalm), Kokuyo Riddhi Paper Products Pvt. Ltd. (Kokuyo), Lodha Offset Limited (Lodha), Lotus Global Private Limited (Lotus Global), Magic International Pvt. Ltd. (Magic International), Marisa International, Navneet Education Ltd. (Navneet), Pioneer Stationery Pvt. Ltd. (Pioneer), PP Bafna Ventures Private Limited (PP Bafna), SAB International, SGM Paper Products, and Super Impex.³ On December 18, 2017, Goldenpalm timely withdrew its request for review.⁴ On January 25 and 26, 2018, the Association of American School Paper Suppliers and its individual members (AASPS or the petitioners) timely withdrew their request for review of SAB International and Super Impex, respectively.⁵ On January 29, 2018, SAB International and Super Impex also timely withdrew their respective requests for review.⁶ On February 5, and February 9, 2018, Lotus Global and PP Bafna timely withdrew their respective requests for review.⁷ No other party requested an administrative review of these particular companies.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

² See Antidumping or Countervailing Duty Order, Finding, or Suspended Investigation; Opportunity To Request Administrative Review, 82 FR 41595 (September 1, 2017).

³ See Initiation of Antidumping and Countervailing Duty Administrative Reviews, 82 FR 52268 (November 13, 2017) (Initiation Notice).

⁴ See Goldenpalm's letter titled, “Lined Paper Products from India; A-533-843; Withdrawal of Request for Review by Goldenpalm Manufacturers PVT Limited,” dated December 18, 2017.

⁵ See the petitioners' letter titled, “Certain Lined Paper Products from India: Withdrawal of Request for Administrative Review of SAB International,” dated January 25, 2018. See also the petitioners' letter titled, “Certain Lined Paper Products from India: Withdrawal of Request for Administrative Review of Super Impex,” dated January 26, 2018.

⁶ See SAB International's letter titled, “Certain Lined Paper Products from India: Withdrawal of Request for Administrative Review of Anti-Dumping Duty of SAB International,” dated January 29, 2018. See also Super Impex's letter titled, “Certain Lined Paper Products from India: Withdrawal of Request for Administrative Review of Anti-Dumping Duty of Super Impex,” dated January 29, 2018.

⁷ See Letter from Lotus Global Private Limited to Commerce, “Certain Lined Paper Products from India: Withdrawal of Request for Administrative Review of Antidumping Duty of Lotus Global Private Limited,” dated February 5, 2018. See also Letter from PP Bafna to Commerce, “Certain Lined Paper Products from India: Withdrawal of Request for Administrative Review of Antidumping Duty of PP Bafna Ventures Private Limited,” dated February 9, 2018.

Partial Rescission of the 2016-2017 Administrative Review

Pursuant to 19 CFR 351.213(d)(1), Commerce will rescind an administrative review, in whole or in part, if the party that requested a review withdraws the request within 90 days of the date of publication of the notice of initiation of the requested review. All of the aforementioned withdrawal requests were timely submitted and no other interested party requested an administrative review of these particular companies. Therefore, in accordance with 19 CFR 351.213(d)(1), and consistent with our practice,⁸ we are rescinding this review of the antidumping duty order on certain lined paper products from India, in part, with respect to Goldenpalm, Super Impex, SAB International, Lotus Global, and PP Bafna. The administrative review will continue with respect to Kokuyo, Lodha, Magic International, Marisa International, Navneet, Pioneer, and SGM Paper Products.

⁸ See, e.g., Certain Lined Paper Products from India: Notice of Partial Rescission of Antidumping Duty Administrative Review and Extension of Time Limit for the Preliminary Results of Antidumping Duty Administrative Review, 74 FR 21781, 21783 (May 11, 2009); see also Carbon Steel Butt-Weld Pipe Fittings from Thailand: Rescission of Antidumping Duty Administrative Review, 74 FR 7218, 7218 (February 13, 2009).

Assessment

Commerce will instruct U.S. Customs and Border Protection (CBP) to assess antidumping duties on all appropriate entries. For the companies for which this review is rescinded, Goldenpalm, Super Impex, SAB International, Lotus Global, and PP Bafna, antidumping duties shall be assessed on their entries of subject merchandise at rates equal to the cash deposit of estimated antidumping duties required at the time of entry, or withdrawal from warehouse, for consumption, during the period September 1, 2016, through August 31, 2017, in accordance with 19 CFR 351.212(c)(1)(i).

Commerce intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in Commerce' presumption that reimbursement of antidumping and/or countervailing duties occurred and the subsequent assessment of doubled antidumping duties.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: August 10, 2018.
James Maeder,
Associate Deputy Assistant Secretary for Antidumping and Countervailing Duty Operations performing the duties of Deputy Assistant Secretary for Antidumping and Countervailing Duty Operations.

[FR Doc. 2018-17692 Filed 8-15-18; 8:45 am]

BILLING CODE 3510-DS-P